DEPARTMENT OF THE INTERIOR

Bureau of Land Management

[PO #4820000251; G-Invoicing Number: O2412-014-004-047181.0]

Application for a Recordable Disclaimer of Interest for Lands Owned by University of Alaska, Silver Fox Mine; Serial No. AKAK106592264

AGENCY: Bureau of Land Management, Interior.

ACTION: Notice of application.

SUMMARY: The University of Alaska (UA) has filed an application for a recordable disclaimer of interest (RDI) application with the Bureau of Land Management (BLM) for the lands described in Mineral Survey No. 2407. The lands are also known as Silver Fox Mine. The lands were patented to UA on December 27, 1984, with a reversionary interest to the United States. UA seeks to remove the reversionary interest and a perceived cloud on title.

DATES: All comments to this section should be received on or before October 27, 2025.

ADDRESSES: You may provide comments on the RDI application or the BLM's “Silver Fox Mine Summary Report”, both located at https://www.blm.gov/programs/lands-and-realty/regional-information/alaska/RDI/tanana by mail, email, or in-person. Mail comments to: Bureau of Land Management ATTN: Bettie Shelby, Branch Chief and Deputy Authorized Officer (AK-941), Division of Lands and Cadastral, 222 West 7th Avenue #13, Anchorage, Alaska 99513; email comments to bshelby@blm.gov; or hand-deliver comments during normal business hours (8:00 a.m. to 4:00 p.m.) to the BLM Public Information Center, 222 West 7th Avenue, Anchorage, Alaska 99513.

FOR FURTHER INFORMATION CONTACT: Bettie Shelby, Acting Branch Chief and Deputy Authorized Officer (AK-941), at 222 W 7th Avenue, #13, Anchorage, Alaska 99513; 907-271-5596; bshelby@blm.gov; or visit the BLM's Recordable Disclaimer of Interest website at https://www.blm.gov/programs/lands-and-realty/regional-information/alaska/RDI.

Individuals in the United States who are deaf, deafblind, hard of hearing, or have a speech disability may dial 711 (TTY, TDD, or TeleBraille) to access telecommunications relay services for contacting Ms. Wallace. Individuals outside the United States should use the relay services offered within their country to make international calls to the point-of-contact in the United States.

SUPPLEMENTARY INFORMATION: UA, an instrumentality of the State of Alaska, filed an RDI application with the BLM on April 26, 2021, pursuant to 43 CFR part 1860, subpart 1864. The application pertains to the lands described in Mineral Survey No. 2407, officially filed on May 6, 1983, and patented to UA (patent number 50-85-0070) on December 27, 1984, with a reversionary interest to the United States. The legal land description is as follows:

That portion of Mineral Survey No. 2407, Alaska, situated in Sections 8 and 9, Township 2 North, Range 1 East, Fairbanks Meridian, Alaska.

The area contains 59.59 acres.

UA contends there is a cloud on title due to discrepancies between stipulations in the Educational Mining Act of 1982, patent number 50-85-0070, and subsequent statutes. The discrepancies resulted in restrictions to UA's use of the described lands. The BLM agrees the discrepancies noted disregard the express direction of Congress to convey all right, title, and interest of the lands described to UA and limits UA's use of the land. If granted, the RDI application will remove the reversionary interest of the United States and the perceived cloud on the title.

An RDI is a legal document through which the BLM disclaims the United States' interest in or ownership of specified lands, but the disclaimer does not grant, convey, transfer, or renounce any title or interest in the lands, nor does it release any tax, judgment, or lien. This notice of application is to inform the public of the pending application and the UA's supporting evidence, as well as to provide the opportunity to comment or provide additional information to the BLM.

The BLM will not make a final decision on the merits of UA's application before October 27, 2025. During this 90-day period interested parties may comment on the university's application, AKFF-097727, and supporting evidence. In the same period interested parties may also comment on the BLM's “Silver Fox Mine Summary Report” available on the RDI website (see the FOR FURTHER INFORMATION CONTACT section).

Copies of the university's application, supporting evidence, the BLM Summary Report, and comments (including names and street addresses of commenters) will be available for public review at the Alaska State Office, Public Room, 222 West 7th Avenue, #13, Anchorage, AK 99513, during regular business hours, 8:00 a.m. to 4:00 p.m., Monday through Friday, excepting holidays.

Before including your address, phone number, email address, or other personally identifying information in your comment, you should be aware that your entire comment—including your personally identifying information—may be made publicly available at any time. While you can ask the BLM in your comment to withhold your personally identifying information from public review, we cannot guarantee that we will be able to do so.

Authority: 43 CFR 1864.0-3 and 43 U.S.C. 1745.

Chelsea Kreiner,
Acting Deputy State Director, Division of Lands, Realty, and Cadastral.

[FR Doc. 2025-14289 Filed 7-28-25; 8:45 am]

BILLING CODE 4331-10-P